FEDERAL TRADE COMMISSION

Agency Information Collection Activities; Proposed Collection; Comment Request

Correction

In notice document 03-9852 beginning on page 19825 in the issue of Tuesday, April 22, 2003 make the following corrections:

1. On page 19825, in the first column, under ADDRESSES, in the third line “1600” should read “600”.

2. On the same page, in the second column, in the first paragraph, in the sixth line “ipappalardo@ftc.gov” should read “jpappalardo@ftc.gov”.

3. On the same page, in the same column, under SUPPLEMENTARY INFORMATION, in the third line “suggests” should read “suggest”.

[FR Doc. C3-9852 Filed 4-25-03; 8:45 am]

BILLING CODE 1505-01-D

DEPARTMENT OF HEALTH AND HUMAN SERVICES

Office of the Secretary

45 CFR Part 160

[CMS-0010-IFC]

RIN 0938-AM63

Civil Money Penalties: Procedures for Investigations, Imposition of Penalties, and Hearings

Correction

In rule document 03-9497 beginning on page 18895 in the issue of Thursday, April 17, 2003, make the following correction:

On page 18895, in the first column, in the DATES section, under Expiration Date:, in the third line, “September 16, 2003,” should read, “September 16, 2004.”

[FR Doc. C3-9497 Filed 4-25-03; 8:45 am]

BILLING CODE 1505-01-D

DEPARTMENT OF JUSTICE

Drug Enforcement Administration

[Docket No. 01-1]

The Church of the Living Tree; Denial of Application

Correction

In notice document 03-8590 beginning on page 17403 in the issue of Wednesday, April 9, 2003, make the following correction:

On page 17404, in the first column, in the second line, the sentance beginning “However” should read as follows: “However, by letter dated August 11, 2003, Mr. Stahl advised the then-Deputy Administrator of DEA's error, and the agency subsequently rescinded the prior final order by order dated November 21, 2000.”

[FR Doc. C3-8590 Filed 4-25-03; 8:45 am]

BILLING CODE 1505-01-D